DEPARTMENT OF ENERGY

Federal Energy Regulatory Commission

Combined Notice of Filings #1

Take notice that the Commission received the following electric corporate filings:

Docket Numbers: EC18-113-000.

Applicants: Copenhagen Wind Farm, LLC, Stoneray Power Partners, LLC.

Description: Application for Authorization under Section 203 of the Federal Power Act and Request for Confidential Treatment and Request for Expedited Action of Copenhagen Wind Farm, LLC, et al.

Filed Date: 6/26/18.

Accession Number: 20180626-5217.

Comments Due: 5 p.m. ET 7/17/18.

Take notice that the Commission received the following electric rate filings:

Docket Numbers: ER10-2407-005; ER10-2424-005; ER10-2425-007; ER13-1816-009; ER17-1316-002; ER18-1186-001.

Applicants: Lost Lakes Wind Farm LLC, Pioneer Prairie Wind Farm I, LLC, Quilt Block Wind Farm LLC, Rail Splitter Wind Farm, LLC, Sustaining Power Solutions LLC, Turtle Creek Wind Farm LLC.

Description: Updated Market Power Analysis for Central Region and Notice of Non-Material Change in Status of Lost Lakes Wind Farm LLC, et al.

Filed Date: 6/26/18.

Accession Number: 20180626-5243.

Comments Due: 5 p.m. ET 8/27/18.

Docket Numbers: ER15-1332-006; ER10-2398-007; ER10-2399-007; ER10-2400-008; ER10-2401-006; ER10-2402-006; ER10-2403-007; ER10-2406-008; ER10-2409-007; ER10-2410-007; ER10-2411-008; ER10-2412-008; ER10-2414-008; ER11-2935-009; ER11-3414-007; ER13-1816-008; ER14-1933-007; ER15-1333-006; ER16-1724-004; ER17-1315-004; ER17-1318-002; ER17-2087-002.

Applicants: Arbuckle Mountain Wind Farm LLC, Blackstone Wind Farm, LLC, Blackstone Wind Farm II LLC, Blue Canyon Windpower LLC, Blue Canyon Windpower II LLC, Blue Canyon Windpower V LLC, Blue Canyon Windpower VI LLC, Cloud County Wind Farm, LLC, Headwaters Wind Farm LLC, High Trail Wind Farm, LLC, Hog Creek Wind Project, LLC, Meadow Lake Wind Farm LLC, Meadow Lake Wind Farm II LLC, Meadow Lake Wind Farm III LLC, Meadow Lake Wind Farm IV LLC, Meadow Lake Wind Farm V LLC, Old Trail Wind Farm, LLC, Paulding Wind Farm II LLC, Paulding Wind Farm III LLC, Redbed Plains Wind Farm LLC, Waverly Wind Farm LLC, Sustaining Power Solutions LLC.

Description: Notice of Non-Material Change in Status of Arbuckle Mountain Wind Farm LLC, et al.

Filed Date: 6/26/18.

Accession Number: 20180626-5239.

Comments Due: 5 p.m. ET 7/17/18.

Docket Numbers: ER17-512-006.

Applicants: Virginia Electric and Power Company.

Description: Compliance filing: Informational Filing of VEPCO Docket No. ER17-512-006 to be effective N/A.

Filed Date: 6/27/18.

Accession Number: 20180627-5001.

Comments Due: 5 p.m. ET 7/18/18.

Docket Numbers: ER18-1464-003.

Applicants: Midcontinent Independent System Operator, Inc.

Description: Tariff Amendment: 2018-06-26_Deficiency response for the Sub-Regional Power Balance Constraints to be effective 6/26/2018.

Filed Date: 6/26/18.

Accession Number: 20180626-5180.

Comments Due: 5 p.m. ET 7/17/18.

Docket Numbers: ER18-1859-000.

Applicants: Midcontinent Independent System Operator, Inc.

Description: § 205(d) Rate Filing: 2018-06-27_SA 2840 Entergy Arkansas-Stuttgart Solar LLC 1st Rev GIA (J348) to be effective 6/18./2018.

Filed Date: 6/27/18.

Accession Number: 20180627-5025.

Comments Due: 5 p.m. ET 7/18./18.

Docket Numbers: ER18-1860-000.

Applicants: NorthWestern Corporation.

Description: § 205(d) Rate Filing: SA 767 5th Rev—NITSA with Basin Electric Power Cooperative, Inc. to be effective 7/1/2018.

Filed Date: 6/27/18.

Accession Number: 20180627-5031.

Comments Due: 5 p.m. ET 7/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2018.
Kimberly D. Bose,
Secretary.

[FR Doc. 2018-14342 Filed 7-3-18; 8:45 am]

BILLING CODE 6717-01-P